OFFICE OF PERSONNEL MANAGEMENT

Submission for Review: Report of Withholdings and Contributions for Health Benefits, Life Insurance and Retirement (Standard Form 2812); Report of Withholdings and Contributions for Health Benefits By Enrollment Code (Standard Form 2812-A); Supplemental Semiannual Headcount Report (OPM Form 1523)

AGENCY: U.S. Office of Personnel Management.

ACTION: 60-Day Notice and request for comments.

SUMMARY: Trust Funds Group of the Office of Chief Financial Officer, Office of Personnel Management (OPM), offers the general public and other Federal agencies the opportunity to comment on changes to existing Standard Form 2812, Standard Form 2812-A, and OPM Form 1523. As required by the Paperwork Reduction Act of 1995 (Pub. L. 104-13, 44 U.S.C. chapter 35), and as amended by the Clinger-Cohen Act (Pub. L. 104-106), OPM is soliciting comments for this collection. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until August 5, 2013. This process is conducted in accordance with 5 CFR 1320.1.

ADDRESSES: Interested persons are invited to submit written comments on the proposed information collection to the Trust Funds Group, Room 4416, Office of Personnel Management, 1900 E Street NW., Washington, DC 20415, Attention: Paul Gvozdov, or sent via email to FundsManagement-TrustFunds@opm.gov.

FOR FURTHER INFORMATION CONTACT: A copy of this ICR, with applicable supporting documentation, may be obtained by contacting the Trust Funds Group, Room 4416, Office of Personnel Management, 1900 E Street NW., Washington, DC 20415, Attention: Paul Gvozdov, or sent via email to FundsManagement-TrustFunds@opm.gov.

SUPPLEMENTARY INFORMATION: Public Law 112-96, Section 5001, the “Middle Class Tax Relief and Job Creation Act of 2012,” makes two significant changes to the Federal Employees Retirement System (FERS). First, beginning in 2013, new employees (as designated in the statute) will have to pay significantly higher employee contributions, an increase of 2.3 percent of salary. Second, new Members of Congress and Congressional employees, in addition to paying higher retirement contributions, will accrue retirement benefits at the same rate as regular employees.

New employees affected by this law will be classified in a new retirement category: the Federal Employees Retirement System—Revised Annuity Employees (FERS-RAE). The current Standard Form 2812, Standard Form 2812-A, and OPM Form 1523, have been changed to reflect this additional category.

Analysis

Agency: Trust Funds Group of the Office of Chief Financial Officer, Office of Personnel Management.

Title: (1) Report of Withholdings and Contributions for Health Benefits, Life Insurance and Retirement (Standard Form 2812); (2) Report of Withholdings and Contributions for Health Benefits By Enrollment Code (Standard Form 2812-A); (3) Supplemental Semiannual Headcount Report (OPM Form 1523).

OMB Number: 3260-NEW.

Frequency: Semiannually for OPM Form 1523 and once-per-pay-period for the Standard Form 2812 and Standard Form 2812-A.

Affected Public: Public Entities with Federal Employees and Retirees.

Number of Respondents: 100.

Estimated Time per Respondent: 30 minutes.

Total Burden Hours: 2,700.

U.S. Office of Personnel Management.
Elaine Kaplan,
Acting Director.

[FR Doc. 2013-13216 Filed 6-3-13; 8:45 am]

BILLING CODE 6325-23-P